DEPARTMENT OF AGRICULTURE

Food and Nutrition Service

Agency Information Collection Activities: Proposed Collection; Comment Request: Disclosure of Children's Free and Reduced Price Meals and Free Milk Eligibility Information in the Child Nutrition Programs

AGENCY: Food and Nutrition Service, USDA.

ACTION: Notice.

SUMMARY: In accordance with the Paperwork Reduction Act of 1995, 44 U.S.C. 3507, this notice invites the general public and other public agencies to comment on proposed information collections.

DATES: Written comments on this notice must be received or postmarked by September 18, 2006.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Melissa Rothstein, Chief, Program Analysis and Monitoring Branch, Child and Nutrition Division, Food and Nutrition Service, USDA, 3101 Park Center Drive, Room 640, Alexandria, Virginia 22302-1594. Comments may also be submitted via fax to the attention of Melissa Rothstein at (703) 305-2879 or via e-mail to melissa.rothstein@fns.usda.gov.

All responses to this notice will be summarized and included in the request for OMB approval. All comments will be a matter of public record.

FOR FURTHER INFORMATION CONTACT: Request for additional information or copies of this information collection should be directed to Melissa Rothstein at the address above or by telephone at 703-305-2590.

SUPPLEMENTARY INFORMATION: Title: Disclosure of Children's Free and Reduced Price Meals and Free Milk Eligibility Information in the Child Nutrition Programs.

OMB Numbers: 0584-0280, 0584-0055 and 0584-0026, respectively.

Expiration Date: 12/31/07, 08/31/08, and 10/31/06, respectively.

Type of Request: Revision of currently approved information collections.

Abstract: FNS is amending the regulations for the Child Nutrition Programs to establish the requirements for the disclosure of children's free and reduced price meals or free milk eligibility information. The Child Nutrition Programs include the National School Lunch Program (NSLP), Special Milk Program (SMP), School Breakfast Program (SBP), Summer Food Service Program (SFSP), and Child and Adult Care Food Program (CACFP) at 7 CFR parts 210, 215, 220, 225 and 226, respectively. The regulation, Determining Eligibility for Free and Reduced Price Meals and Free Milk in Schools (7 CFR part 245), is also being amended to implement the disclosure provisions in the NSLP, SBP and SMP.

The final rule will reflect the disclosure provisions of the Healthy Meals for Healthy Americans Act of 1994 and comments received on the proposed rule—Disclosure of Children's Eligibility Information—published July 25, 2000, at 65 FR 45725. Additionally, the final rule includes the regulatory disclosure provisions implementing the Agricultural Risk Protection Act of 2000 and comments received on the interim rule, Disclosure of Children's Eligibility Information to State Medicaid and the State Children's Health Insurance Program, issued January 11, 2001, at 66 FR 2195. The final rule will also implement nondiscretionary provisions of the Child Nutrition and WIC Reauthorization Act of 2004 that allow certain third party contractors access to children's eligibility status and allow school officials to communicate with Medicaid and SCHIP officials to verify that children are eligible for free and reduced price school meals or free milk. The regulations will affect State agencies and local program operators that administer the Child Nutrition Programs and households which apply for and/or are approved for free and reduced price meals or free milk.

Regulations at 7 CFR part 245 establish the responsibilities of State agencies and school food authorities in providing free and reduced price meals and free milk in the National School Lunch Program ( 7 CFR part 210), the School Breakfast Program (7 CFR part 220), and the Special Milk Program for Children (7 CFR part 215). Therefore, the burden associated with State agencies and school food authorities disclosing free and reduced price eligibility information for 7 CFR parts 210, 215 and 220 is carried in the information collection for 7 CFR part 245.

Estimated Annual Recordkeeping Burden
[7 CFR Part 225 OMB No. 0584-0280]
| Section | Annual number of respondents | Number responses per respondent | Hours per response | Total burden
State agencies or sponsors must enter into a written agreement with the party requesting children's free and reduced price eligibility information:
Total existing State agencies | 7 CFR 225.15(k) | 53 | 0 | 0 | 0
Total proposed State agencies | 7 CFR 225.15(k) | 53 | 1 | .25 | 13
Total existing Sponsors | 7 CFR 225.15(k) | 3,763 | 0 | 0 | 0
Total proposed Sponsors | 7 CFR 225.15(k) | 3,763 | 1 | .083 | 312
State agencies or sponsors that plan to use or disclose information in ways not permitted by statute must obtain written consent from the child's parent or guardian prior to use or disclosure:
Total existing State agencies | 7 CFR 225.15(j) | 53 | 0 | 0 | 0
Total proposed State agencies | 7 CFR 225.15(j) | 53 | 1 | .25 | 13
Total existing Sponsors | 7 CFR 225.15(j) | 3,763 | 0 | 0 | 0
Total proposed Sponsor | 7 CFR 225.15(j) | 3,763 | 1 | .25 | 941
Total existing Households | 7 CFR 225.15(j) | 128,369 | 0 | 0
Total proposed Households | 7 CFR 225.15(j) | 128,369 | 1 | .083 | 10,655

Affected Public: State Local or Tribal Government, Individuals or Households, Business or other for-profit institutions, Not-for-profit institutions, and Federal government.

Estimated Number of recordkeepers: 132,185.

Estimated annual hours per recordkeeper: .09.

Estimated recordkeeping hours: 11,934.

Estimated Total Annual Burden: 716,348.

Estimated Annual Recordkeeping and Reporting Burden
[7 CFR Part 226 OMB No. 0584-0055]
| Section | Annual number of respondents | Number responses per respondent | Hours per response | Total burden
State agencies or SFAs must enter into a written agreement with the party requesting children's free and reduced price eligibility information:
Total existing State agencies | 7 CFR 226.23(m) | 55 | 0 | 0 | 0
Total proposed State agencies | 7 CFR 226.23(m) | 55 | 1 | .25 | 14
Total existing Institutions | 7 CFR 226.23(m) | 21,224 | 0 | 0 | 0
Total proposed Institutions | 7 CFR 226.23(m) | 21,224 | 1 | .083 | 1,762
State agencies or SFAs that plan to use or disclose information in ways not permitted by statute must obtain written consent from the child's parent or guardian prior to use or disclosure:
Total existing State agencies | 7 CFR 226.23(l) | 55 | 0 | 0 | 0
Total proposed State agencies | 7 CFR 226.23(l) | 55 | 1 | .25 | 14
Total existing Institutions | 7 CFR 226.23(l) | 21,224 | 0 |  | 0
Total proposed Institutions | 7 CFR 226.23(l) | 21,224 | 1 | .25 | 5,306
Total existing Households | 7 CFR 226.23(l) | 887,419 | 0 | 0 | 0
Total proposed Households | 7 CFR 226.23(l) | 887,419 | 1 | .083 | 75,656

Affected Public: State Local or Tribal Government, Individuals or Households, Business or other for-profit institutions, Not-for-profit institutions, and Federal government.

Number of recordkeepers: 908,698.

Estimated annual hours per recordkeeper: .09.

Estimated recordkeeping hours: 82,752.

Estimated Total Annual Burden: 6,672,835.

Estimated Annual Recordkeeping and Reporting Burden
[7 CFR Part 245 OMB No. 0584-0026]
| Section | Annual number of respondents | Number responses per respondent | Hours per response | Total Burden
State agencies or SFAs must enter into a written agreement with the party requesting children's free and reduced price eligibility information:
Total existing State agencies | 7 CFR 245.6(j) | 54 | 0 | 0 | 0
Total proposed State agencies | 7 CFR 245.6(j) | 54 | 2 | .25 | 27
Total existing SFAs | 7 CFR 245.6(j) | 20,710 | 0 | 0 | 0
Total proposed SFAs | 7 CFR 245.6(j) | 20,710 | 2 | .083 | 3,438
State agencies or SFAs that plan to use or disclose information in ways not permitted by statute must obtain written consent from the child's parent or guardian prior to use or disclosure:
Total existing State agencies | 7 CFR 245.6(i) | 54 | 0 | 0 | 0
Total proposed State agencies | 7 CFR 245.6(i) | 54 | 2 | .25 | 27
Total existing SFAs | 7 CFR 245.6(i) | 20,710 | 0 |  | 0
Total proposed SFAs | 7 CFR 245.6(i) | 20,710 | 2 | .25 | 10,355
Total Existing Households | 7 CFR 245.6(i) | 4,138,810 | 0 | 0 | 0
Total Proposed Households | 7 CFR 245.6(i) | 4,138,810 | 2 | .083 | 687,042

Affected Public: State Local or Tribal Government, Individuals or Households, Business or other for-profit institutions, Not-for-profit institutions, and Federal government.

Estimated Number of recordkeepers: 4,159,574.

Estimated annual hours per recordkeeper: .17.

Estimated recordkeeping hours: 700,889.

Estimated Total Annual Burden: 1,758,167.

Dated: July 6, 2006.
Roberto Salazar,
Administrator, Food and Nutrition Service.

[FR Doc. 06-6365 Filed 7-18-06; 8:45 am]

BILLING CODE 3410-30-P